DEPARTMENT OF AGRICULTURE

Foreign Agricultural Service

Trade Adjustment Assistance for Farmers

AGENCY: Foreign Agricultural Service, USDA.

ACTION: Notice.

The Administrator, Foreign Agricultural Service (FAS), today terminated a petition for trade adjustment assistance (TAA) that was filed by the Wild Blueberry Commission of Maine and initially certified on November 6, 2003. Wild blueberry producers will not be eligible for TAA benefits in fiscal year 2005.

SUPPLEMENTARY INFORMATION: Upon investigation, the Administrator determined that domestic producer prices did not decline at least 20 percent during the July 2003-June 2004 marketing year, when compared to average prices during the 5-year base period ending June 2002, a condition required for re-certifying the petition for TAA.

FOR FURTHER INFORMATION CONTACT: Jean-Louis Pajot, Coordinator, Trade Adjustment Assistance for Farmers, FAS, USDA, (202) 720-2916, e-mail: trade.adjustment@fas.usda.gov.

Dated: September 23, 2004.
A. Ellen Terpstra,
Administrator, Foreign Agricultural Service.

[FR Doc. 04-22650 Filed 10-7-04; 8:45 am]

BILLING CODE 3410-10-P